DEPARTMENT OF HEALTH AND HUMAN SERVICES

Health Resources and Services Administration

Agency Information Collection Activities: Submission to OMB for Review and Approval; Public Comment Request; Be The Match® Patient Services Survey, OMB No. 0906-0004—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than December 13, 2017.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Be The Match® Patient Services Survey.

OMB No.: 0906-0004—Revision.

Abstract: The National Marrow Donor Program®/Be The Match® is a HRSA contractor dedicated to helping patients and families get the support and information they need to learn about their disease and treatment options, prepare for a blood stem cell transplant, and thrive after a transplant procedure. The information and resources provided help individuals navigate the bone marrow or cord blood transplant process. Participant feedback is essential to understand the needs for transplant support services and educational information across a diverse population. This information is used to determine the helpfulness of existing services and resources. Feedback is also used to identify areas for improvement and develop future programs.

Need and Proposed Use of the Information: Barriers to access to bone marrow or cord blood transplant related care and educational information are multi-factorial. Feedback from participants is essential to understand the changing needs for services and information as well as to demonstrate the effectiveness of existing services. The primary use for information gathered through the survey is to determine helpfulness of participants' initial contact with Be The Match® Patient Services Coordinators (PSC) and to identify areas for improvement in the delivery of services. In addition, stakeholders use this evaluation data to make program and resource allocation decisions.

The survey includes the following items to measure: (1) Reason for contacting Be The Match®, (2) if the PSC was able to answer questions and easy to understand, (3) if the contact helped the participant to feel better prepared to discuss transplant with their care team, (4) increase in awareness of available resources, (5) timeliness of response, and (6) overall satisfaction.

Proposed changes to the survey instrument include updated references to the survey title and staff titles. Changes to the questions include minor changes to question one, changes to the instructions for questions three and four, and minor rewording of question six. Question eight is simplified. References to race and ethnicity are updated to better match preliminary U.S. Census Bureau question format and statements from the U.S. Department of Education to allow individuals to self-identify their ethnicity and race and permit individuals to select more than one race and/or ethnicity. These changes will not increase respondent burden.

Likely Respondents: Respondents will include all patients, caregivers, and family members who have contact with Be The Match® Patient Services Coordinators via phone or email for transplant navigation services and support. The decision to survey all participants was made based on historic evidence of patients' unavailability due to frequent transitions in health status as well as transfer between home and the hospital for initial treatment and care for complications.

Burden Statement: Burden in this context means the time expended by persons to generate, maintain, retain, disclose, or provide the information requested. This includes the time needed to: (1) Review instructions; (2) develop, acquire, install, and utilize technology and systems for the purpose of collecting, validating, and verifying information, processing and maintaining information, and disclosing and providing information; (3) train personnel; (4) be able to respond to a collection of information; (5) search data sources; (6) to complete and review the collection of information; (7) and to transmit or otherwise disclose the information. The total annual burden hours estimated for this Information Collection Request are summarized in the table below.

Total Estimated Annualized Burden—Hours
Form name | Number of respondents | Number of responses per respondent | Total responses | Average burden per response (in hours) | Total burden hours
Be The Match® Patient Services Survey | 420 | 1 | 420 | 0.25 | 105
Total | 420 |  | 420 |  | 105

Amy McNulty,
Acting Director, Division of the Executive Secretariat.

[FR Doc. 2017-24494 Filed 11-9-17; 8:45 am]

BILLING CODE 4165-15-P